DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of a vessel and persons whose property and interests in property have been unblocked and which have been removed from the Specially Designated Nationals and Blocked Persons List (SDN List).

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or the Assistant Director for Compliance, tel.: 202-622-2490 or https://ofac.treasury.gov/contact-ofac.

SUPPLEMENTARY INFORMATION:

Electronic Availability

The SDN List and additional information concerning OFAC sanctions programs are available on OFAC's website (https://www.treasury.gov/ofac).

Notice of OFAC Action(s)

A. On September 10, 2024, OFAC removed from the SDN List the vessel listed below, which was subject to prohibitions imposed pursuant to Executive Order 14024 of April 15, 2021, “Blocking Property With Respect To Specified Harmful Foreign Activities of the Government of the Russian Federation,” 86 FR 20249, 3 CFR, 2021 Comp., p. 542 (Apr. 15, 2021) (E.O. 14024). On September 10, 2024, OFAC determined that circumstances no longer warrant the inclusion of the following vessel on the SDN List under this authority. This vessel is no longer subject to the blocking provisions of section 1(a) of E.O. 14024.

Vessel

1. FLYING FOX (ZGHN) Yacht 9,022GRT Cayman Islands flag; Secondary sanctions risk: See Section 11 of Executive Order 14024.; Vessel Registration Identification IMO 9829394; MMSI 319133800 (vessel) [RUSSIA-EO14024] (Linked To: IMPERIAL YACHTS SARL).

B. On September 10, 2024, OFAC removed from the SDN List the persons listed below, whose property and interests in property were blocked pursuant to E.O. 14024. On September 10, 2024, OFAC determined that circumstances no longer warrant the inclusion of the following persons on the SDN List under this authority. These persons are no longer subject to the blocking provisions of E.O. 14024.

Individual

1. RETTICH, Inga, Switzerland; Cyprus; DOB 06 Jul 1978; nationality Switzerland; Gender Female; Secondary sanctions risk: See Section 11 of Executive Order 14024. (individual) [RUSSIA-EO14024] (Linked To: BONUM CAPITAL CYPRUS LTD).

Entity

1. PROMINVESTBANK (a.k.a. COMMERCIAL INDUSTRIAL AND

INVESTMENT BANK PUBLIC JOINT STOCK COMPANY; a.k.a. JOINT STOCK COMMERCIAL INDUSTRIAL AND INVESTMENT BANK PUBLIC JOINT STOCK COMPANY; a.k.a. PSC PROMINVESTBANK; a.k.a. PUBLIC STOCK COMPANY JOINT STOCK COMMERCIAL INDUSTRIAL AND INVESTMENT BANK), 12, Shevchenko lane, Kyiv 01001, Ukraine; SWIFT/BIC UPIBUAUX; website pib.ua; Executive Order 13662 Directive

Determination—Subject to Directive 1; Organization Established Date 26 Aug 1992; Target Type Financial Institution; Registration Number 00039002 (Ukraine); All offices worldwide; for more information on directives, please visit the following link: http://www.treasury.gov/resourcecenter/sanctions/Programs/Pages/ukraine.aspx#directives. [UKRAINE-EO13662] (Linked To: STATE CORPORATION BANK FOR DEVELOPMENT AND FOREIGN ECONOMIC AFFAIRS VNESHECONOMBANK).

Dated: September 30, 2024.
Lisa M. Palluconi,
Acting Director, Office of Foreign Assets Control, U.S. Department of the Treasury.

[FR Doc. 2024-22954 Filed 10-3-24; 8:45 am]

BILLING CODE 4810-AL-P